FEDERAL COMMUNICATIONS COMMISSION

47 CFR Part 15

[ET Docket No. 20-36; FCC 20-156; FRS 17432]

Unlicensed White Space Device Operations in the Television Bands; Correction

AGENCY: Federal Communications Commission.

ACTION: Final rule; correction.

SUMMARY: The Federal Communications Commission (Commission) is correcting a final rule that appeared in the Federal Register on January 12, 2021. In this document, the Commission revised its rules to expand the ability of unlicensed white space devices to deliver wireless broadband services in rural areas and to facilitate the development of new and innovative narrowband Internet of Things (IoT) devices. This correction clarifies an amendatory instruction.

DATES: Effective February 11, 2021.

ADDRESSES: Federal Communications Commission, 45 L Street NE, Washington, DC 20554.

FOR FURTHER INFORMATION CONTACT: Hugh Van Tuyl, Office of Engineering and Technology, 202-418-7506, Hugh.VanTuyl@fcc.gov.

SUPPLEMENTARY INFORMATION: This correction clarifies that the Commission's modifications to § 15.712(h)(1) were to the introductory text of (h)(1) and not (h)(1) as a whole.

Correction

In FR Doc. 20-26706, appearing on page 2278 in the Federal Register on January 12, 2021, the following correction is made:

§ 15.712 [Corrected]

1. On page 2293, in the second column, instruction number 6 amending § 15.712 is corrected to read as follows:

6. Amend § 15.712 by:

a. Revising the introductory text and paragraphs (a)(2) and (3) and (b)(3)(ii) and (iii);

b. Adding paragraph (b)(3)(iv);

c. Revising paragraph (c)(2)(ii);

d. Adding paragraph (c)(2)(iii); and

e. Revising paragraphs (d), (f), and (g); (h)(1) introductory text, and (i)(1).

The revisions and additions read as follows:

Dated: January 27, 2021.
Federal Communications Commission.
Marlene Dortch,
Secretary.

[FR Doc. 2021-02626 Filed 2-5-21; 8:45 am]

BILLING CODE 6712-01-P